DEPARTMENT OF ENERGY

Federal Energy Regulatory Commission

[Docket No. EG01-316-000, et al.]

Panda Tallmadge Power, L.P., et al.; Electric Rate and Corporate Regulation Filings

September 20, 2001.

Take notice that the following filings have been made with the Commission:

1. Panda Tallmadge Power, L.P.

[Docket No. EG01-316-000]

Take notice that on September 18, 2001, Panda Tallmadge Power, L.P. (Panda), with its principal offices at 4100 Spring Valley Road, Suite 1001, Dallas, Texas 75244, filed with the Federal Energy Regulatory Commission, an application for determination of exempt wholesale generator status pursuant to Section 32 of the Public Utility Holding Company Act of 1935, as amended, and Part 365 of the Commission's regulations.

Panda is a Delaware limited partnership, which will construct, own and operate a nominal 1100 MW natural gas-fired generating facility within the region governed by the Mid-American Interconnected Network, Inc. (“MAIN”) and sell electricity at wholesale.

Comment date: October 11, 2001, in accordance with Standard Paragraph E at the end of this notice. The Commission will limit its consideration of comments to those that concern the adequacy or accuracy of the application.

2. Wisconsin Electric Power Company

[Docket No. ER01-3065-000]

Take notice that on September 17, 2001, Wisconsin Electric Power Company (Wisconsin Electric) tendered for filing an electric service agreement under its Coordination Sales Tariff (FERC Electric Tariff, Second Revised Volume No. 2) between Wisconsin Electric and Southern Illinois Power Cooperative (SIPC).

Wisconsin Electric respectfully requests an effective date August 17, 2001.

Copies of the filing have been served on SIPC, the Michigan Public Service Commission, and the Public Service Commission of Wisconsin.

Comment date: October 9, 2001, in accordance with Standard Paragraph E at the end of this notice.

3. Southern Power Company

[Docket No. ER01-3066-000]

Take notice that on September 17, 2001, Southern Power Company (Southern Power) tendered for filing a market-based Purchased Power Agreement by and between Georgia Power Company (Georgia Power) and Southern Power, dated July 26, 2001, (the Agreement). The Agreement (Rate Schedule No. 4) provides the general terms and conditions for capacity and associated energy sales from Southern Power to Georgia Power commencing June 1, 2002.

Comment date: October 9, 2001, in accordance with Standard Paragraph E at the end of this notice.

4. Southern Power Company

[Docket No. ER01-3067-000]

Take notice that on September 17, 2001, Southern Power Company (Southern Power) tendered for filing a market-based Purchased Power Agreement by and between Savannah Electric and Power Company (Savannah Electric) and Southern Power, dated July 26, 2001, (the Agreement). The Agreement (Rate Schedule No. 5) provides the general terms and conditions for capacity and associated energy sales from Southern Power to Savannah Electric commencing June 1, 2002.

Comment date: October 9, 2001, in accordance with Standard Paragraph E at the end of this notice.

5. PacifiCorp

[Docket No. ER01-3069-000]

Take notice that on September 17, 2001, PacifiCorp tendered for filing with the Federal Energy Regulatory Commission (Commission) in accordance with 18 CFR Part 35 of the Commission's Rules and Regulations, a fully executed Confirmation Agreement (Agreement) executed August 13, 2001 between Bonneville Power Administration (Bonneville) and PacifiCorp.

Copies of this filing were supplied to the Washington Utilities and Transportation Commission and the Public Utility Commission of Oregon.

Comment date: October 9, 2001, in accordance with Standard Paragraph E at the end of this notice.

6. Tampa Electric Company

[Docket No. ER01-3070-000]

Take notice that on September 18, 2001, Tampa Electric Company (Tampa Electric) tendered for filing notices of cancellation of its contracts for the purchase and sale of power and energy with Florida Power & Light Company, South Carolina Electric & Gas Company, The Energy Authority, Inc., LG&E Energy Marketing Inc., Exelon Generation Company, LLC, Entergy-Koch Trading, LP, Tennessee Valley Authority, Mirant Americas Energy Marketing, LP, Tenaska Power Services Co., and Virginia Electric and Power Company.

Tampa Electric proposes that the cancellations be made effective on October 29, 2001.

Copies of the filing have been served on the parties to the affected contracts and the Florida Public Service Commission.

Comment date: October 9, 2001, in accordance with Standard Paragraph E at the end of this notice.

7. PacifiCorp

[Docket No. ER01-3071-000]

Take notice that on September 17, 2001, PacifiCorp tendered for filing with the Federal Energy Regulatory Commission (Commission), in accordance with 18 CFR part 35 of the Commission's Rules and Regulations, a Letter Agreement dated July 20, 2001 between Flathead Electric Cooperative and PacifiCorp.

Copies of this filing were supplied to the Washington Utilities and Transportation Commission and the Public Utility Commission of Oregon.

Comment date: October 9, 2001, in accordance with Standard Paragraph E at the end of this notice.

8. Florida Power Corporation

[Docket No. ER01-3072-000]

Take notice that on September 18, 2001, Florida Power Corporation (FPC) tendered for filing with the Federal Energy Regulatory Commission (Commission) netting agreements between FPC and American Electric Power Service Corporation; Electric Clearinghouse, Inc.; and El Paso Merchant Energy L.P. (collectively the Netting Agreements).

Copies of the filing were served upon FPC's counterparties to the Netting Agreements.

Comment date: October 9, 2001, in accordance with Standard Paragraph E at the end of this notice.

9. Carolina Power and Light Company

[Docket No. ER01-3073-000]

Take notice that on September 18, 2001, Carolina Power and Light Company (CP&L) tendered for filing netting agreements with the following counterparties: Allegheny Energy Supply Company, L.L.C.; American Electric Power Service Corporation; Avista Energy, Inc.; AYP Energy, Inc.; Cargill-Alliant, L.L.C.; Cinergy Services, Inc.; Columbia Energy Services Corporation; Coral Power, L.L.C.; Engage Energy US, L.P.; Dayton Power & Light Company; DTE Energy Trading; Duke Energy Trading and Marketing, L.L.C.; Electric Clearinghouse, Inc.; Citizens Power Sales; El Paso Merchant Energy L.P.; The Energy Authority, Inc.; Enron Power Marketing, Inc.; Koch Energy Trading, Inc.; LG&E Marketing, Inc.; Louisville Gas and Electric Company/Kentucky Utilities Company; Merchant Energy Group of the Americas, Inc.; Southern Company Energy Marketing, L.P.; Morgan Stanley Capital Group Inc.; NGE Generation, Inc.; Northern Indiana Public Service Company; OGE Energy Resources, Inc.; PG&E Energy Trading-Power, L.P.; PP&L., Inc.; Rainbow Energy marketing Corporation; NorAm Energy Services, Inc.; Sempra Energy Trading Corp.; Statoil Energy Trading, Inc.; Tenaska Power Service Co.; Virginia Electric and Power Company; Tractebel Energy Marketing, Inc.; and Vitol Gas & Electric LLC (collectively the Netting Agreements).

Copies of the filing were served upon CP&L's counterparties to the Netting Agreements.

Comment date: October 9, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24041 Filed 9-25-01; 8:45 am]

BILLING CODE 6717-01-P